DEPARTMENT OF TRANSPORTATION

Federal Aviation Administration

14 CFR Part 71

[Docket No. FAA-2008-1114; Airspace Docket No. 08-AGL-17]

RIN 2120-AA66

Establishment of Low Altitude Area Navigation Route (T-Route); Rockford, IL

AGENCY: Federal Aviation Administration (FAA), DOT.

ACTION: Final rule.

SUMMARY: This action establishes a low altitude Area Navigation (RNAV) route, designated T-265, in the Chicago/Rockford International Airport, IL, terminal area. This route allows for more effective utilization of airspace and enhances the management of aircraft operations in the Chicago/Rockford International Airport, IL, terminal area west of Chicago, IL.

DATES: Effective Date: 0901 UTC, October 22, 2009. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On Wednesday, December 24, 2008, the FAA published in the Federal Register a notice of proposed rulemaking (NPRM) to establish low altitude area navigation route T-265 (73 FR 79035). Interested parties were invited to participate in this rulemaking effort by submitting written comments on the proposal. Two comments were received in response to the NPRM.

Discussion of Comments

One commenter suggested the FAA establish a similar T-route between Portland, OR, and Seattle, WA. The commenter based his discussion on the icing conditions pilots experience while flying in that area during the winter months, as they comply with published minimum en-route altitudes between the cities. The comment received provided no substantive information relative to the proposed T-265 RNAV route and falls outside the scope of this rulemaking action. However, the commenter's remarks will be shared with the FAA Western Service Area for their consideration in future airway actions, as appropriate.

The second commenter opposed the proposed route, stating it was too far west of Chicago to be very helpful to general aviation aircraft. The commenter further stated general aviation needed T-routes to help skirt by or through controlled airspace to save air-miles.

T-265 was proposed to establish an RNAV route to efficiently manage transient air traffic through the Chicago/Rockford International Airport approach control airspace and remain clear of the Chicago Class B high density airspace area. As a practical matter, the Chicago/Rockford approach control air traffic controllers cannot route air traffic across the northwest corner of the Chicago Class B as this would impact the JANESVILLE FIVE instrument approach procedure into Chicago O'Hare International Airport. Further complicating use of this airspace are the planned actions underway to establish a system of arrival and departure instrument procedures to and from the west into Chicago O'Hare, the second busiest airport in the national airspace system. As a result of the high volume of air traffic operations and the existing and planned instrument procedures supporting Chicago O'Hare International Airport arrivals and departures, transient instrument flight rules aircraft traveling north or south around the Chicago Class B high density airspace area have to file either east of Chicago over Lake Michigan or west of Chicago through the Chicago/Rockford International Airport approach control airspace. For aircraft opting to fly west of Chicago, the proposed T-265 route is the same route of flight currently being issued by Chicago/Rockford approach control air traffic controllers to re-route airborne aircraft through their controlled airspace around the Chicago Class B airspace area.

The FAA has determined that establishing T-265 will maximize the efficient use of airspace west of Chicago, and save flying miles for general aviation pilots transiting around the Chicago Class B airspace area.

The Rule

This action amends Title 14 Code of Federal Regulations (14 CFR) part 71 by establishing route T-265 in the Chicago/Rockford International Airport, IL, terminal area. The route is intended to be used by GNSS-equipped aircraft that are capable of filing flight plane equipment code “/G.” The route will be depicted in blue on the appropriate IFR en route low altitude charts. The FAA is taking this action to enhance safety and to facilitate the flexible and efficient use of the navigable airspace for en route IFR operations transitioning through the Chicago/Rockford International terminal airspace area west of Chicago, IL.

Low altitude RNAV routes are published in paragraph 6011 of FAA Order 7400.9S signed October 3, 2008, and effective October 31, 2008, which is incorporated by reference in 14 CFR 71.1. The low altitude RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes a low altitude Area Navigation route (T-Route) at Rockford, IL.

Environmental Review

The FAA has determined that this action qualifies for categorical exclusion under the National Environmental Policy Act in accordance with FAA Order 1050.1E, “Environmental Impacts: Policies and Procedures,” paragraph 311a, 311b, and 311k. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9S, Airspace Designations and Reporting Points, signed October 3, 2008, and effective October 31, 2008, is amended as follows:

Paragraph 6011 United States Area Navigation Routes.

* * * * *

T-265 KELSI, IL to VEENA, WI [New]

KELSI, IL WP

(Lat. 41°26′20″ N., long. 88°59′29″ W.)

SIMMN, IL WP

(Lat. 41°58′50″ N., long. 88°52′42″ W.)

BULLZ, IL WP

(Lat. 42°27′27″ N., long. 88°46′17″ W.)

VEENA, WI WP

(Lat. 42°42′18″ N., long. 88°18′14″ W.)

* * * * *

Issued in Washington, DC, on September 1, 2009.
Ellen Crum,
Acting Manager, Airspace and Rules Group.

[FR Doc. E9-21432 Filed 9-4-09; 8:45 am]

BILLING CODE 4910-13-P